DEPARTMENT OF COMMERCE

Foreign-Trade Zones Board

[S-180-2025]

Approval of Subzone Status; PTubes, Inc. d/b/a Feinrohren PT; Waymart, Pennsylvania

On June 23, 2025, the Executive Secretary of the Foreign-Trade Zones (FTZ) Board docketed an application submitted by the Eastern Distribution Center, Inc., grantee of FTZ 24, requesting subzone status subject to the existing activation limit of FTZ 24, on behalf of PTubes, Inc. d/b/a Feinrohren PT, in Waymart, Pennsylvania.

The application was processed in accordance with the FTZ Act and Regulations, including notice in the Federal Register inviting public comment (90 FR 27278, June 26, 2025). The FTZ staff examiner reviewed the application and determined that it meets the criteria for approval. Pursuant to the authority delegated to the FTZ Board Executive Secretary (15 CFR 400.36(f)), the application to establish Subzone 24J was approved on August 6, 2025, subject to the FTZ Act and the Board's regulations, including section 400.13, and further subject to FTZ 24's 2,000-acre activation limit.

Dated: August 6, 2025.
Elizabeth Whiteman,
Executive Secretary.

[FR Doc. 2025-15184 Filed 8-8-25; 8:45 am]

BILLING CODE 3510-DS-P